DEPARTMENT OF ENERGY

Federal Energy Regulatory Commission

[Project No. 1962-000]

Pacific Gas & Electric Company; Notice of Meeting

May 19, 2000.

Take notice that there will be a full group meeting of the Rock Creek-Cresta Relicensing Collaborative on Monday, June 5, 2000, from 9 a.m. to 4 p.m. at the PG&E offices, 2740 Gateway Oaks Drive, in Sacramento, California. Mark Robinson of the Commission's Office of Energy Projects has been invited to participate by phone for a brief update of the settlement status. Expected participants need to give their names to William Zemke (PG&E) at (415) 973-1646 so that they can get through security.

For further information, please contact Elizabeth Molloy at (202) 208-0771.

Linwood A. Watson, Jr.,
Acting Secretary.

[FR Doc. 00-13108 Filed 5-24-00; 8:45 am]

BILLING CODE 6717-01-M